NATIONAL CREDIT UNION ADMINISTRATION

Notice of Meeting

TIME AND DATE: 10 a.m., Thursday, November 21, 2002.

PLACE: Board Room, 7th Floor, Room 7047, 1775 Duke Street, Alexandria, VA 22314-3428.

STATUS: Open.

MATTERS TO BE CONSIDERED: 1. Request from a Federal Credit Union to Convert to a Community Charter.

2. Final Rule: Part 702 of NCUA's Rules and Regulations, Prompt Corrective Action (PCA).

3. Proposed Rule: Section 702.206 of NCUA's Rules and Regulations, PCA, Net Worth Restoration Plans.

4. Proposed Rule: Interpretive Ruling and Policy Statement (IRPS) 02-4, Amending the Regulatory Flexibility Act Provisions of IRPS 87-2.

5. Proposed Rule: Interpretive Ruling and Policy Statement (IRPS) 02-3, Section 701.1 of NCUA's Rules and Regulations, Amendments to NCUA's Chartering and Field of Membership Policies.

6. NCUA's Annual Performance Plan for 2003.

7. NCUA's Operating Budget for 2003/2004.

8. NCUA's Operating Fee Scale for 2003.

RECESS: 11:15 a.m.

TIME AND DATE: 11:30 a.m., Thursday, November 21, 2002.

PLACE: Board Room, 7th Floor, Room 7047, 1775 Duke Street, Alexandria, VA 22314-3428.

STATUS: Closed.

MATTERS TO BE CONSIDERED: 1. Three (3) Insurance Appeals. Closed pursuant to Exemptions (6) and (7).

FOR FURTHER INFORMATION CONTACT: Becky Baker, Secretary of the Board, Telephone: 703-518-6304.

Beckey Baker,
Secretary of the Board.

[FR Doc. 02-29323 Filed 11-14-02; 12:10 pm]

BILLING CODE 7535-01-M